NATIONAL AERONAUTICS AND SPACE ADMINISTRATION

[Notice (14-056)]

NASA Advisory Council; Science Committee; Heliophysics Subcommittee; Meeting

AGENCY: National Aeronautics and Space Administration.

ACTION: Notice of meeting.

SUMMARY: In accordance with the Federal Advisory Committee Act, Public Law 92-463, as amended, the National Aeronautics and Space Administration (NASA) announces a meeting of the Heliophysics Subcommittee of the NASA Advisory Council (NAC). This Subcommittee reports to the Science Committee of the NAC. The meeting will be held for the purpose of soliciting, from the scientific community and other persons, scientific and technical information relevant to program planning.

DATES: Thursday, July 17, 2014, 2:00 p.m. to 5:30 p.m., and Friday, July 18, 2014, 10:00 a.m. to 3:00 p.m., Local Time.

FOR FURTHER INFORMATION CONTACT: Ms. Ann Delo, Science Mission Directorate, NASA Headquarters, Washington, DC 20546, (202) 358-0750, fax (202) 358-2779, or ann.b.delo@nasa.gov.

SUPPLEMENTARY INFORMATION: This meeting will be open to the public telephonically and by WebEx. Any interested person may call the USA toll free conference call number 800-857-4254, Passcode 6732, to participate in this meeting by telephone. This toll free number and passcode will be used on July 17 and July 18, 2014. The WebEx link is https://nasa.webex.com/, meeting number 994-941-564, password HPS@July2014 will be used on July 17, 2014. The WebEx link is https://nasa.webex.com/, meeting number 998-276-132, password HPS@July2014 will be used on July 18, 2014.

The agenda for the meeting includes the following topics:

—Heliophysics Division Overview and Program Status

—Flight Mission Status Report

—Heliophysics Budget

—Heliophysics Roadmap for Science and Technology 2013-2033 Status

It is imperative that the meeting be held on this date to accommodate the scheduling priorities of the key participants.

Harmony Myers,
Acting Advisory Committee Management Officer, National Aeronautics and Space Administration.

[FR Doc. 2014-14963 Filed 6-25-14; 8:45 am]

BILLING CODE 7510-13-P